DEPARTMENT OF COMMERCE

National Oceanic and Atmospheric Administration

RIN 0648-XE733

Gulf of Mexico Fishery Management Council; Public Meeting

AGENCY: National Marine Fisheries Service (NMFS), National Oceanic and Atmospheric Administration (NOAA), Commerce.

ACTION: Notice of a public meeting via Webinar.

SUMMARY: The Gulf of Mexico Fishery Management Council will hold a meeting of its Standing and Reef Fish Scientific and Statistical Committees (SSC) via Webinar.

DATES: The meeting will be held on Tuesday, August 2, 2016, from 1 p.m. to 3:30 p.m. (EDT), to view the agenda, see SUPPLEMENTARY INFORMATION.

ADDRESSES: The meeting will be held via Webinar; you may registering, at https://attendee.gotowebinar.com/register/3960738127259119362.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Agenda

I. Introductions and adoption of agenda

II. Selection of SSC representative at August, 2016 Council meeting

III. Reevaluation of alternative FMSY proxies (FMAX, F20%SPR, F22%SPR, and F24%SPR) for red snapper

IV. Discussion of next gray triggerfish assessment—benchmark or standard

V. Review of updated SEDAR schedule

VI. Other business

— Meeting Adjourns—

Please register for SSC Meeting: Standing and Reef Fish on Aug. 2, 2016, 1 p.m. (EDT), at https://attendee.gotowebinar.com/register/3960738127259119362. After registering, you will receive a confirmation email containing information about joining the Webinar.

The Agenda is subject to change, and the latest version along with other meeting materials will be posted on the Council's file server. To access the file server, the URL is https://public.gulfcouncil.org:5001/webman/index.cgi, or go to the Council's Web site and click on the FTP link in the lower left of the Council Web site http://www.gulfcouncil.org. The username and password are both “gulfguest.” Click on the “Library Folder,” then scroll down to “SSC meeting-2016-08.”

The meeting will be webcast over the Internet. A link to the webcast will be available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira, at the Gulf Council Office (see ADDRESSES), at least 5 working days prior to the meeting.

Authority: 16 U.S.C. 1801 et seq.

Dated: July 12, 2016.
Tracey L. Thompson,
Acting Director, Office of Sustainable Fisheries, National Marine Fisheries Service.

[FR Doc. 2016-16745 Filed 7-14-16; 8:45 am]

BILLING CODE 3510-22-P